DEPARTMENT OF ENERGY

Federal Energy Regulatory Commission

Combined Notice of Filings

Take notice that the Commission has received the following Natural Gas Pipeline Rate and Refund Report filings:

Filings Instituting Proceedings

Docket Numbers: RP12-79-000.

Applicants: Entergy Arkansas, Inc. KGen Hot Spring LLC.

Description: Request of Entergy Arkansas, Inc. and KGen Hot Spring LLC for Temporary Waiver,

Filed Date: 10/31/2011.

Accession Number: 20111031-5142.

Comment Date: 5 p.m. Eastern Time on Monday, November 14, 2011.

Docket Numbers: RP12-80-000.

Applicants: Algonquin Gas Transmission, LLC.

Description: KeySpan 2011-11-01 release to BP Energy to be effective 11/1/2011.

Filed Date: 10/31/2011.

Accession Number: 20111031-5147.

Comment Date: 5 p.m. Eastern Time on Monday, November 14, 2011.

Docket Numbers: RP12-81-000.

Applicants: Entergy Mississippi, Inc., KGen Hinds LLC.

Description: Request of Entergy Mississippi, Inc. and KGen Hinds LLC for Temporary Waiver.

Filed Date: 10/31/2011.

Accession Number: 20111031-5208.

Comment Date: 5 p.m. Eastern Time on Monday, November 14, 2011.

Docket Numbers: RP12-82-000.

Applicants: CenterPoint Energy Gas Transmission Company, LLC.

Description: CEGT LLC—Negotiated Rate—November 2011 to be effective 11/1/2011.

Filed Date: 10/31/2011.

Accession Number: 20111031-5210.

Comment Date: 5 p.m. Eastern Time on Monday, November 14, 2011.

Docket Numbers: RP12-83-000.

Applicants: Algonquin Gas Transmission, LLC.

Description: ConEd 2011-11-01 Releases #2 to be effective 11/1/2011.

Filed Date: 10/31/2011.

Accession Number: 20111031-5211.

Comment Date: 5 p.m. Eastern Time on Monday, November 14, 2011.

Docket Numbers: RP12-84-000.

Applicants: Northern Natural Gas Company.

Description: 20111031 Negotiated Rate to be effective 11/1/2011.

Filed Date: 10/31/2011.

Accession Number: 20111031-5218.

Comment Date: 5 p.m. Eastern Time on Monday, November 14, 2011.

Docket Numbers: RP12-85-000.

Applicants: Gulf South Pipeline Company, LP.

Description: Pensacola 30432-15 Amendment to Negotiated Rate Agreement to be effective 11/1/2011.

Filed Date: 10/31/2011.

Accession Number: 20111031-5222.

Comment Date: 5 p.m. Eastern Time on Monday, November 14, 2011.

Docket Numbers: RP12-86-000.

Applicants: Gulf South Pipeline Company, LP.

Description: Atmos 35226-47 Amendment to Negotiated Rate Agreement to be effective 11/1/2011.

Filed Date: 10/31/2011.

Accession Number: 20111031-5226.

Comment Date: 5 p.m. Eastern Time on Monday, November 14, 2011.

Docket Numbers: RP12-87-000.

Applicants: Midcontinent Express Pipeline LLC..

Description: Fuel Tracking Filing to be effective 12/1/2011.

Filed Date: 10/31/2011.

Accession Number: 20111031-5246.

Comment Date: 5 p.m. Eastern Time on Monday, November 14, 2011.

Docket Numbers: RP12-88-000.

Applicants: National Fuel Gas Supply Corporation.

Description: Rate Case (Oct 2011) to be effective 12/1/2011.

Filed Date: 10/31/2011.

Accession Number: 20111031-5253.

Comment Date: 5 p.m. Eastern Time on Monday, November 14, 2011.

Docket Numbers: RP12-89-000.

Applicants: Texas Eastern Transmission, LP.

Description: ASA TETLP DEC 2011 FILING to be effective 12/1/2011.

Filed Date: 10/31/2011.

Accession Number: 20111031-5261.

Comment Date: 5 p.m. Eastern Time on Monday, November 14, 2011.

Docket Numbers: RP12-90-000.

Applicants: Enbridge Offshore Pipelines (UTOS) LLC.

Description: Cancellation Filing to be effective 12/1/2011.

Filed Date: 10/31/2011.

Accession Number: 20111031-5263.

Comment Date: 5 p.m. Eastern Time on Monday, November 14, 2011.

Docket Numbers: RP12-91-000.

Applicants: Transcontinental Gas Pipe Line Company, LLC.

Description: 2011 Penalty Refund Report to be effective N/A.

Filed Date: 10/31/2011.

Accession Number: 20111031-5271.

Comment Date: 5 p.m. Eastern Time on Monday, November 14, 2011.

Docket Numbers: RP12-92-000.

Applicants: Trailblazer Pipeline Company LLC.

Description: Negotiated Rate and Non-Conforming Agreements to be effective 11/1/2011.

Filed Date: 10/31/2011.

Accession Number: 20111031-5278.

Comment Date: 5 p.m. Eastern Time on Monday, November 14, 2011.

Docket Numbers: RP12-93-000.

Applicants: Fayetteville Express Pipeline LLC.

Description: FEP Semi-Annual Fuel Filing 002 to be effective 12/1/2011.

Filed Date: 10/31/2011.

Accession Number: 20111031-5285.

Comment Date: 5 p.m. Eastern Time on Monday, November 14, 2011.

Docket Numbers: RP12-94-000.

Applicants: Transcontinental Gas Pipe Line Company, LLC

Description: GSS LSS Tracker Filing 11-01-2011 to be effective 11/1/2011.

Filed Date: 10/31/2011.

Accession Number: 20111031-5287.

Comment Date: 5 p.m. Eastern Time on Monday, November 14, 2011.

Docket Numbers: RP12-95-000.

Applicants: Natural Gas Pipeline Company of America LLC.

Description: Negotiated Rate Filing—Wisconsin Electric to be effective 11/1/2011.

Filed Date: 10/31/2011.

Accession Number: 20111031-5288.

Comment Date: 5 p.m. Eastern Time on Monday, November 14, 2011.

Docket Numbers: RP12-96-000.

Applicants: Iroquois Gas Transmission System, L.P.

Description: 10/31/11 Negotiated Rates—NextEra Energy Power Mfg (HUB) to be effective 11/1/2011.

Filed Date: 10/31/2011.

Accession Number: 20111031-5289.

Comment Date: 5 p.m. Eastern Time on Monday, November 14, 2011.

Docket Numbers: RP12-97-000.

Applicants: Iroquois Gas Transmission System, L.P.

Description: 10/31/11 Negotiated Rates—JP Morgan Ventures Energy Corp. (HUB) to be effective 11/1/2011.

Filed Date: 10/31/2011.

Accession Number: 20111031-5290.

Comment Date: 5 p.m. Eastern Time on Monday, November 14, 2011.

Docket Numbers: RP12-98-000.

Applicants: Iroquois Gas Transmission System, L.P.

Description: 10/31/11 Negotiated Rates—United Energy Trading, LLC (HUB) to be effective 11/1/2011.

Filed Date: 10/31/2011.

Accession Number: 20111031-5294.

Comment Date: 5 p.m. Eastern Time on Monday, November 14, 2011.

Docket Numbers: RP12-99-000.

Applicants: Iroquois Gas Transmission System, L.P.

Description: 10/31/11 Negotiated Rates—Occidental Energy Marketing, Inc. (HUB) to be effective 11/1/2011.

Filed Date: 10/31/2011.

Accession Number: 20111031-5300.

Comment Date: 5 p.m. Eastern Time on Monday, November 14, 2011.

Docket Numbers: RP12-100-000.

Applicants: Iroquois Gas Transmission System, L.P.

Description: 10/31/11 Negotiated Rates—Sequent Energy Management (HUB) to be effective 11/1/2011.

Filed Date: 10/31/2011.

Accession Number: 20111031-5306.

Comment Date: 5 p.m. Eastern Time on Monday, November 14, 2011.

Docket Numbers: RP12-101-000.

Applicants: Iroquois Gas Transmission System, L.P.

Description: 10/31/11 Negotiated Rates—Spark Energy Gas (HUB) to be effective 11/1/2011.

Filed Date: 10/31/2011.

Accession Number: 20111031-5313.

Comment Date: 5 p.m. Eastern Time on Monday, November 14, 2011.

Docket Numbers: RP12-102-000.

Applicants: Iroquois Gas Transmission System, L.P.

Description: 10/31/11 Negotiated Rates—Cononco Phillips Company—RTS to be effective 11/1/2011.

Filed Date: 10/31/2011.

Accession Number: 20111031-5326.

Comment Date: 5 p.m. Eastern Time on Monday, November 14, 2011.

Docket Numbers: RP12-103-000.

Applicants: Iroquois Gas Transmission System, L.P.

Description: 10/31/11 Negotiated Rates—Freepoint Commodities LLC—RTS to be effective 11/1/2011.

Filed Date: 10/31/2011.

Accession Number: 20111031-5329.

Comment Date: 5 p.m. Eastern Time on Monday, November 14, 2011.

Docket Numbers: RP12-104-000.

Applicants: Iroquois Gas Transmission System, L.P.

Description: 10/31/11 Negotiated Rates—Tenaska Marketing Ventures—RTS to be effective 11/1/2011.

Filed Date: 10/31/2011.

Accession Number: 20111031-5333.

Comment Date: 5 p.m. Eastern Time on Monday, November 14, 2011.

Docket Numbers: RP12-105-000.

Applicants: Iroquois Gas Transmission System, L.P.

Description: 10/31/11 Negotiated Rates—BG Energy Merchants, LLC—RTS to be effective 11/1/2011.

Filed Date: 10/31/2011.

Accession Number: 20111031-5337.

Comment Date: 5 p.m. Eastern Time on Monday, November 14, 2011.

Docket Numbers: RP12-106-000.

Applicants: Iroquois Gas Transmission System, L.P.

Description: 10/31/11 Negotiated Rates—United Energy Trading LLC—RTS to be effective 11/1/2011.

Filed Date: 10/31/2011.

Accession Number: 20111031-5341.

Comment Date: 5 p.m. Eastern Time on Monday, November 14, 2011.

Docket Numbers: RP12-107-000.

Applicants: Iroquois Gas Transmission System, L.P.

Description: 10/31/11 Negotiated Rates—Sequent Energy Management—RTS to be effective 11/1/2011.

Filed Date: 10/31/2011.

Accession Number: 20111031-5349.

Comment Date: 5 p.m. Eastern Time on Monday, November 14, 2011.

Docket Numbers: RP12-108-000.

Applicants: Iroquois Gas Transmission System, L.P.

Description: 10/31/11 Negotiated Rates—Societe Generale Energy Corp.—RTS to be effective 11/1/2011.

Filed Date: 10/31/2011.

Accession Number: 20111031-5357.

Comment Date: 5 p.m. Eastern Time on Monday, November 14, 2011.

Docket Numbers: RP12-109-000.

Applicants: Iroquois Gas Transmission System, L.P.

Description: 10/31/11 Negotiated Rates—Tenaska Marketing Ventures (HUB) to be effective 11/1/2011.

Filed Date: 10/31/2011.

Accession Number: 20111031-5359.

Comment Date: 5 p.m. Eastern Time on Monday, November 14, 2011.

Docket Numbers: RP12-110-000.

Applicants: Transcontinental Gas Pipe Line Company, LLC.

Description: Statement of Negotiated Rates (SCEG) to be effective 11/1/2011.

Filed Date: 10/31/2011.

Accession Number: 20111031-5361.

Comment Date: 5 p.m. Eastern Time on Monday, November 14, 2011.

Docket Numbers: RP12-111-000.

Applicants: Algonquin Gas Transmission, LLC.

Description: ConEd 2011-11-01 Releases #3 to be effective 11/1/2011.

Filed Date: 10/31/2011.

Accession Number: 20111031-5369.

Comment Date: 5 p.m. Eastern Time on Monday, November 14, 2011.

Docket Numbers: RP12-112-000.

Applicants: Kinder Morgan Interstate Gas Transmission LLC

Description: Negotiated Rate 2011-10-31 Mieco to be effective 11/1/2011.

Filed Date: 10/31/2011.

Accession Number: 20111031-5394.

Comment Date: 5 p.m. Eastern Time on Monday, November 14, 2011.

Docket Numbers: RP12-113-000.

Applicants: Wyoming Interstate Company, L.L.C.

Description: Quarterly FL&U Filing 10/31/11 to be effective 12/1/2011.

Filed Date: 10/31/2011.

Accession Number: 20111031-5405.

Comment Date: 5 p.m. Eastern Time on Monday, November 14, 2011.

Docket Numbers: RP12-114-000.

Applicants: Golden Triangle Storage, Inc.

Description: GTS Administrative Revisions to FERC Gas Tariff to be effective 11/1/2011.

Filed Date: 10/31/2011.

Accession Number: 20111031-5406.

Comment Date: 5 p.m. Eastern Time on Monday, November 14, 2011.

Docket Numbers: RP12-115-000.

Applicants: Guardian Pipeline, L.L.C.

Description: Non-conforming Agreements—Spark to be effective 11/1/2011.

Filed Date: 10/31/2011.

Accession Number: 20111031-5410.

Comment Date: 5 p.m. Eastern Time on Monday, November 14, 2011.

Docket Numbers: RP12-116-000.

Applicants: Empire Pipeline, Inc.

Description: Non-Conforming Agreements (Tioga) to be effective 11/1/2011.

Filed Date: 10/31/2011.

Accession Number: 20111031-5415.

Comment Date: 5 p.m. Eastern Time on Monday, November 14, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-43-001.

Applicants: Natural Gas Pipeline Company of America LLC.

Description: Amendment to OXY Negotiated Rate Agreement to be effective 11/1/2011.

Filed Date: 10/31/2011.

Accession Number: 20111031-5388.

Comment Date: 5 p.m. Eastern Time on Monday, November 14, 2011.

Docket Numbers: RP12-53-001.

Applicants: Gulf South Pipeline Company, LP.

Description: RP12-53-001, Amendment to Filing to be effective 11/1/2011.

Filed Date: 10/31/2011.

Accession Number: 20111031-5228.

Comment Date: 5 p.m. Eastern Time on Monday, November 14, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 1, 2011.
Nathaniel J. Davis, Sr.
Deputy Secretary

[FR Doc. 2011-28870 Filed 11-7-11; 8:45 am]

BILLING CODE 6717-01-P